DEPARTMENT OF ENERGY

Federal Energy Regulatory Commission

Combined Notice of Filings #1

Take notice that the Commission received the following exempt wholesale generator filings:

Docket Numbers: EG20-198-000.

Applicants: Cassadaga Wind LLC.

Description: Notice of Self-Certification of Exempt Wholesale Generator Status of Cassadaga Wind LLC.

Filed Date: 6/26/20.

Accession Number: 20200626-5352.

Comments Due: 5 p.m. ET 7/17/20.

Docket Numbers: EG20-199-000.

Applicants: Boswell Wind, LLC.

Description: Self-Certification of EWG Status of Boswell Wind, LLC.

Filed Date: 6/29/20.

Accession Number: 20200629-5333.

Comments Due: 5 p.m. ET 7/20/20.

Take notice that the Commission received the following electric rate filings:

Docket Numbers: ER10-2414-000.

Applicants: Old Trail Wind Farm, LLC.

Description: Updated Market Power Analysis for the Northeast Region of Old Trail Wind Farm, LLC.

Filed Date: 6/26/20.

Accession Number: 20200626-5393.

Comments Due: 5 p.m. ET 8/25/20.

Docket Numbers: ER11-2508-025; ER11-2863-012; ER19-1411-001 ER19-1412-001; R19-1413-001; ER19-1417-002 ER19-1865-001; ER19-1866-001; ER19-1867-001 ER19-1868-001; ER19-1869-001; ER19-1870-001 ER19-1871-001; ER19-1872-001; ER19-2140-002 ER19-2141-002; ER19-2142-002; ER19-2143-002 ER19-2144-002; ER19-2145-002; ER19-2146-002 ER19-2147-002; ER19-2148-002; ER20-1887-001.

Applicants: GenOn Energy Management, LLC, Blossburg Power, LLC, Brunot Island Power, LLC, Chalk Point Steam, LLC, GenOn Bowline, LLC, GenOn Canal, LLC, GenOn Mid-Atlantic, LLC, GenOn Power Midwest, LP, GenOn REMA, LLC, Gilbert Power, LLC, Hamilton Power, LLC, Heritage Power Marketing, LLC, Hunterstown Power, LLC, Niles Power, LLC, Orrtanna Power, LLC, New Castle Power, LLC, Mountain Power, LLC, Portland Power, LLC, Sayreville Power, LLC, Shawnee Power, LLC, Shawville Power, LLC, Titus Power, LLC, Tolna Power, LLC, Warren Generation, LLC.

Description: Updated Market Power Analysis for the Northeast Region of the GenOn Holdings, Inc. subsidiaries.

Filed Date: 6/26/20.

Accession Number: 20200626-5398.

Comments Due: 5 p.m. ET 8/25/20.

Docket Numbers: ER20-1981-000; ER20-1983-000.

Applicants: Pioneer Solar (CO), LLC.

Description: Joint Supplement to June 3, 2020 Pioneer Solar (CO), LLC, et al. tariff filings.

Filed Date: 6/26/20.

Accession Number: 20200626-5404.

Comments Due: 5 p.m. ET 7/17/20.

Docket Numbers: ER20-2201-000.

Applicants: GridLiance High Plains LLC.

Description: Baseline eTariff Filing: Gridliance HP Winfield Joint Ownership Agreement to be effective 9/1/2020.

Filed Date: 6/26/20.

Accession Number: 20200626-5283.

Comments Due: 5 p.m. ET 7/17/20.

Docket Numbers: ER20-2202-000.

Applicants: Cassadaga Wind LLC.

Description: Baseline eTariff Filing: Application for Market-Based Rate Authorization and Request for Waivers to be effective 8/26/2020.

Filed Date: 6/26/20.

Accession Number: 20200626-5289.

Comments Due: 5 p.m. ET 7/17/20.

Docket Numbers: ER20-2203-000.

Applicants: PJM Interconnection, L.L.C.

Description: § 205(d) Rate Filing: Revised WMPA, Service Agreement No. 4869; Queue No. AF1-248 to be effective 5/28/2020.

Filed Date: 6/26/20.

Accession Number: 20200626-5297.

Comments Due: 5 p.m. ET 7/17/20.

Docket Numbers: ER20-2204-000.

Applicants: Tri-State Generation and Transmission Association, Inc.

Description: Tariff Cancellation: Notice of Cancellation of Service Agreement No. 818 to be effective 8/31/2020.

Filed Date: 6/29/20.

Accession Number: 20200629-5252.

Comments Due: 5 p.m. ET 7/20/20.

Docket Numbers: ER20-2205-000.

Applicants: Southwest Power Pool, Inc.

Description: § 205(d) Rate Filing: 3691 MidAmerican Energy, Evergy Missouri West & MISO Int Agr to be effective 8/28/2020.

Filed Date: 6/29/20.

Accession Number: 20200629-5259.

Comments Due: 5 p.m. ET 7/20/20.

Docket Numbers: ER20-2206-000.

Applicants: Southwest Power Pool, Inc.

Description: § 205(d) Rate Filing: 3038R1 Evergy Metro & AECI Interconnection Agreement to be effective 8/28/2020.

Filed Date: 6/29/20.

Accession Number: 20200629-5267.

Comments Due: 5 p.m. ET 7/20/20.

Docket Numbers: ER20-2207-000.

Applicants: PJM Interconnection, L.L.C.

Description: § 205(d) Rate Filing: Amendment to ISA, SA No. 3917, Queue No. Y1—047/Y2-060/Z2-103/AD1-110 (amend) to be effective 6/22/2018.

Filed Date: 6/29/20.

Accession Number: 20200629-5278.

Comments Due: 5 p.m. ET 7/20/20.

Docket Numbers: ER20-2208-000.

Applicants: PJM Interconnection, L.L.C.

Description: § 205(d) Rate Filing: Amendment to ISA, SA No. 4242, Queue No. Z1-092/AD1-142 (amend) to be effective 4/24/2018.

Filed Date: 6/29/20.

Accession Number: 20200629-5280.

Comments Due: 5 p.m. ET 7/20/20.

Docket Numbers: ER20-2209-000.

Applicants: PJM Interconnection, L.L.C.

Description: § 205(d) Rate Filing: Amendment to ISA, Service Agreement No. 4355, Queue No. Z2-011/AD1-109 (amend) to be effective 5/10/2018.

Filed Date: 6/29/20.

Accession Number: 20200629-5281.

Comments Due: 5 p.m. ET 7/20/20.

Docket Numbers: ER20-2210-000.

Applicants: PJM Interconnection, L.L.C.

Description: § 205(d) Rate Filing: Amendment to ISA, SA No. 5067 among PJM, Wolf Run Energy LLC and MAIT (amend) to be effective 4/11/2018.

Filed Date: 6/29/20.

Accession Number: 20200629-5283.

Comments Due: 5 p.m. ET 7/20/20.

Docket Numbers: ER20-2211-000.

Applicants: PJM Interconnection, L.L.C.

Description: § 205(d) Rate Filing: Amendment to ISA, SA No. 5149 between PJM, Beaver Dam Energy LLC and MAIT to be effective 7/16/2018.

Filed Date: 6/29/20.

Accession Number: 20200629-5286.

Comments Due: 5 p.m. ET 7/20/20.

Docket Numbers: ER20-2212-000.

Applicants: FirstLight CT Housatonic LLC.

Description: § 205(d) Rate Filing: Revised Market-Based Rate Tariff to be effective 6/30/2020.

Filed Date: 6/29/20.

Accession Number: 20200629-5296.

Comments Due: 5 p.m. ET 7/20/20.

Docket Numbers: ER20-2213-000.

Applicants: FirstLight CT Hydro LLC.

Description: § 205(d) Rate Filing: Revised Market-Based Rate Tariff to be effective 6/30/2020.

Filed Date: 6/29/20.

Accession Number: 20200629-5298.

Comments Due: 5 p.m. ET 7/20/20.

Docket Numbers: ER20-2214-000.

Applicants: FirstLight MA Hydro LLC.

Description: § 205(d) Rate Filing: Revised Market-Based Rate Tariff to be effective 6/30/2020.

Filed Date: 6/29/20.

Accession Number: 20200629-5301.

Comments Due: 5 p.m. ET 7/20/20.

Docket Numbers: ER20-2215-000.

Applicants: ISO New England Inc., Fitchburg Gas and Electric Light Company.

Description: § 205(d) Rate Filing: Fitchburg Gas and Electric Light Company; Request for Updated Depreciation Rates to be effective 3/1/2020.

Filed Date: 6/29/20.

Accession Number: 20200629-5303.

Comments Due: 5 p.m. ET 7/20/20.

Docket Numbers: ER20-2216-000.

Applicants: Midcontinent Independent System Operator, Inc.

Description: Compliance filing: 2020-06-29_SA 3010 ITC-NSP 1st Rev GIA (J407) to be effective 6/22/2020.

Filed Date: 6/29/20.

Accession Number: 20200629-5304.

Comments Due: 5 p.m. ET 7/20/20.

Docket Numbers: ER20-2217-000.

Applicants: Midcontinent Independent System Operator, Inc.

Description: Compliance filing: 2020-06-29_SA 3508 ITC-NSP FSA (J407) to be effective 6/22/2020.

Filed Date: 6/29/20.

Accession Number: 20200629-5307.

Comments Due: 5 p.m. ET 7/20/20.

Docket Numbers: ER20-2218-000.

Applicants: Northfield Mountain LLC.

Description: § 205(d) Rate Filing: Revised Market-Based Rate Tariff to be effective 6/30/2020.

Filed Date: 6/29/20.

Accession Number: 20200629-5311.

Comments Due: 5 p.m. ET 7/20/20.

Docket Numbers: ER20-2219-000.

Applicants: New England Power Company.

Description: Compliance filing: Order No. 864 Compliance Filng—NEP Sched III-B Revisions to be effective 1/27/2020.

Filed Date: 6/29/20.

Accession Number: 20200629-5342.

Comments Due: 5 p.m. ET 7/20/20.

Docket Numbers: ER20-2220-000.

Applicants: NorthWestern Corporation.

Description: Tariff Cancellation: Cancellation of SA 877, Firm PTP TSA with Energy Keepers, Inc. to be effective 9/1/2020.

Filed Date: 6/29/20.

Accession Number: 20200629-5344.

Comments Due: 5 p.m. ET 7/20/20.

Docket Numbers: ER20-2221-000.

Applicants: AEP Texas Inc.

Description: § 205(d) Rate Filing: AEPTX-Rayos Del Sol Solar 3rd Amended and Restated Interconnection Agreement to be effective 6/11/2020.

Filed Date: 6/29/20.

Accession Number: 20200629-5368.

Comments Due: 5 p.m. ET 7/20/20.

Docket Numbers: ER20-2222-000.

Applicants: Crystal Lake Wind III, LLC.

Description: Baseline eTariff Filing: Reactive Power Compensation Filing to be effective 8/28/2020.

Filed Date: 6/29/20.

Accession Number: 20200629-5369.

Comments Due: 5 p.m. ET 7/20/20.

Docket Numbers: ER20-2223-000.

Applicants: Blossburg Power, LLC.

Description: § 205(d) Rate Filing: Market-Based Rate Tariff Revisions to be effective 6/30/2020.

Filed Date: 6/29/20.

Accession Number: 20200629-5366.

Comments Due: 5 p.m. ET 7/20/20.

Docket Numbers: ER20-2224-000.

Applicants: GenOn Mid-Atlantic, LLC.

Description: § 205(d) Rate Filing: Market-Based Rate Tariff Revisions to be effective 6/30/2020.

Filed Date: 6/29/20.

Accession Number: 20200629-5354.

Comments Due: 5 p.m. ET 7/20/20.

Docket Numbers: ER20-2225-000.

Applicants: PJM Interconnection, L.L.C.

Description: § 205(d) Rate Filing: Amendment to ISA, SA No. 5558; Queue No. AE1-142 (amend) to be effective 1/7/2020.

Filed Date: 6/29/20.

Accession Number: 20200629-5356.

Comments Due: 5 p.m. ET 7/20/20.

Docket Numbers: ER20-2226-000.

Applicants: Hamilton Power, LLC.

Description: § 205(d) Rate Filing: Market-Based Rate Tariff Revisions to be effective 6/30/2020.

Filed Date: 6/29/20.

Accession Number: 20200629-5358.

Comments Due: 5 p.m. ET 7/20/20.

Docket Numbers: ER20-2227-000.

Applicants: Hunterstown Power, LLC.

Description: § 205(d) Rate Filing: Market-Based Rate Tariff Revisions to be effective 6/30/2020.

Filed Date: 6/29/20.

Accession Number: 20200629-5360.

Comments Due: 5 p.m. ET 7/20/20.

Docket Numbers: ER20-2228-000.

Applicants: Niles Power, LLC.

Description: § 205(d) Rate Filing: Market-Based Rate Tariff Revisions to be effective 6/30/2020.

Filed Date: 6/29/20.

Accession Number: 20200629-5361.

Comments Due: 5 p.m. ET 7/20/20.

Docket Numbers: ER20-2229-000.

Applicants: AEP Texas Inc.

Description: § 205(d) Rate Filing: AEPTX-KC Wind SUA Cancellation to be effective 8/29/2020.

Filed Date: 6/29/20.

Accession Number: 20200629-5362.

Comments Due: 5 p.m. ET 7/20/20.

Docket Numbers: ER20-2230-000.

Applicants: Orrtanna Power, LLC.

Description: § 205(d) Rate Filing: Market-Based Rate Tariff Revisions to be effective 6/30/2020.

Filed Date: 6/29/20.

Accession Number: 20200629-5364.

Comments Due: 5 p.m. ET 7/20/20.

Docket Numbers: ER20-2231-000.

Applicants: Titus Power, LLC.

Description: § 205(d) Rate Filing: Market-Based Rate Tariff Revisions to be effective 6/30/2020.

Filed Date: 6/29/20.

Accession Number: 20200629-5370.

Comments Due: 5 p.m. ET 7/20/20.

Docket Numbers: ER20-2232-000.

Applicants: Tolna Power, LLC.

Description: § 205(d) Rate Filing: Market-Based Rate Tariff to be effective 6/30/2020.

Filed Date: 6/29/20.

Accession Number: 20200629-5371.

Comments Due: 5 p.m. ET 7/20/20.

Docket Numbers: ER20-2233-000.

Applicants: Southwest Power Pool, Inc.

Description: § 205(d) Rate Filing: 3197R1 Evergy Missouri West and Galt, MO Interconnection Agr to be effective 8/28/2020.

Filed Date: 6/29/20.

Accession Number: 20200629-5372.

Comments Due: 5 p.m. ET 7/20/20.

Docket Numbers: ER20-2234-000.

Applicants: AEP Texas Inc.

Description: § 205(d) Rate Filing: AEPTX-LCRA TSC (Asherton) Facility Development Agreement to be effective 6/18/2020.

Filed Date: 6/29/20.

Accession Number: 20200629-5373.

Comments Due: 5 p.m. ET 7/20/20.

Docket Numbers: ER20-2235-000.

Applicants: AEP Texas Inc.

Description: § 205(d) Rate Filing: AEPTX-Rayos Del Sol Solar (Vancourt) Interconnection Agreement to be effective 6/11/2020.

Filed Date: 6/29/20.

Accession Number: 20200629-5374.

Comments Due: 5 p.m. ET 7/20/20.

Docket Numbers: ER20-2236-000.

Applicants: Shawnee Power, LLC.

Description: § 205(d) Rate Filing: Market-Based Rate Tariff Revisions to be effective 6/30/2020.

Filed Date: 6/29/20.

Accession Number: 20200629-5375.

Comments Due: 5 p.m. ET 7/20/20.

Docket Numbers: ER20-2237-000.

Applicants: Weatherford Wind, LLC.

Description: Baseline eTariff Filing: Weatherford Wind, LLC Application for MBR Authority to be effective 8/29/2020.

Filed Date: 6/29/20.

Accession Number: 20200629-5384.

Comments Due: 5 p.m. ET 7/20/20.

Docket Numbers: ER20-2238-000.

Applicants: Alabama Power Company.

Description: § 205(d) Rate Filing: AMEA NITSA Amendment Filing (Add New Silverhill DP & Revise Attachment A) to be effective 5/29/2020.

Filed Date: 6/29/20.

Accession Number: 20200629-5392.

Comments Due: 5 p.m. ET 7/20/20.

Take notice that the Commission received the following foreign utility company status filings:

Docket Numbers: FC20-11-000.

Applicants: Faro Energy Ltd.

Description: Notification of Self-Certification of Foreign Utility Company Status.

Filed Date: 6/25/20.

Accession Number: 20200625-5146.

Comments Due: 5 p.m. ET 7/16/20.

Take notice that the Commission received the following qualifying facility filings:

Docket Numbers: QF15-28-000; QF15-29-000.

Applicants: CF CVEC Owner One LLC.

Description: Refund Report of CF CVEC Owner One LLC.

Filed Date: 6/26/20.

Accession Number: 20200626-5403.

Comments Due: 5 p.m. ET 7/17/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 29, 2020.
Nathaniel J. Davis, Sr.,
Deputy Secretary.

[FR Doc. 2020-14551 Filed 7-6-20; 8:45 am]

BILLING CODE 6717-01-P